DEPARTMENT OF ENERGY

Federal Energy Regulatory Commission

[Docket No. RM12-17-000; Docket No. RM01-5-000]

Revisions to Procedural Regulations Governing Transportation by Intrastate Pipelines; Electronic Tariff Filings; Notice of Changes to Etariff Part 284 Type of Filing Codes

As the Commission recently stated in Atmos Pipeline—Texas ¹ and Narragansett Electric Company,² all filings that invoke Part 284 of the Commission's regulations must be made via eTariff. Take notice that, effective November 7, 2016, the list of available eTariff Type of Filing Codes (TOFC) ³ will be modified as per the Appendix to this notice.⁴

¹ 156 FERC ¶ 61,094 (2016). State Rate Certification filings should use TOFC 1360, or TOFC 1260 for the optional filing procedures under section 284.123(g).

² 155 FERC ¶ 61,159 (2016). A Hinshaw pipeline filing a cost and throughput study should use TOFC 790, or TOFC 1370 for the optional filing procedures under section 284.123(g).

³ The type of filing business process categories are described in the Implementation Guide for Electronic Filing of Parts 35, 154, 284, 300, and 341 Tariff Filings (August 12, 2013), found on the Commission's Web site, http://www.ferc.gov/docs-filing/etariff/implementation-guide.pdf.

⁴ These TOFC were most recently modified in Order No. 781, effective September 30, 2013, which revised Part 284 to provide optional notice procedures. Revisions to Procedural Regulations Governing Transportation by Intrastate Pipelines, 144 FERC ¶ 61,034 (2013).

For a more complete guide on filings under Natural Gas Policy Act of 1978 section 311 and Natural Gas Act section 1(c), see http://www.ferc.gov/industries/gas/gen-info/intrastate-trans.asp. For further information, contact James Sarikas, Office of Energy Market Regulation at (202) 502-6831 or James.Sarikas@ferc.gov.

Dated: September 6, 2016.
Kimberly D. Bose,
Secretary.

[FR Doc. 2016-22016 Filed 9-13-16; 8:45 am]

BILLING CODE 6717-01-P